DEPARTMENT OF TRANSPORTATION

Federal Aviation Administration

14 CFR Part 101

[Docket No. FAA-2007-27390; Amendment No. 101-8]

RIN 2120-AI88

Requirements for Amateur Rocket Activities

AGENCY: Federal Aviation Administration (FAA), DOT.

ACTION: Final rule; correction.

SUMMARY: The FAA is making an editorial change to the amateur rocket regulations. This action corrects an unintentional error in the difference between statute and nautical miles. The intent is to ensure the regulations are clear and accurate.

DATES: This amendment is effective September 16, 2009.

FOR FURTHER INFORMATION CONTACT: For technical questions concerning this final rule, contact Charles P. Brinkman, Licensing and Safety Division (AST-200), Commercial Space Transportation, Federal Aviation Administration, 800 Independence Avenue, Washington, DC 20591, telephone (202) 267-7715, e-mail Phil.Brinkman@faa.gov. For legal questions concerning this final rule, contact Gary Michel, Office of the Chief Counsel, Federal Aviation Administration, 800 Independence Avenue, Washington, DC 20591, telephone (202) 267-3148.

SUPPLEMENTARY INFORMATION:

Background

On Friday, July 31, 2009 (74 FR 38092), the FAA published a technical amendment to the final rule “Requirements for Amateur Rocket Activities.” The final rule was published on December 4, 2008 (73 FR 73768). During the review process, we determined that an additional minor amendment is needed in part 101.

In the first line of § 101.25(e), the number “8” (kilometers) is changed to “9.26” to correct the metric conversion when the word “statute” is replaced with the word “nautical”.

Technical Correction

This technical correction merely ensures correct placement of miscellaneous words. There are no other changes to the existing regulatory text.

Justification for Immediate Adoption

Because this action is editorial, the FAA finds that notice and public comment under 5 U.S.C. section 553(b) is unnecessary. For the same reason, the FAA finds good cause exists under 5 U.S.C. section 553(d) for making this rule effective upon publication.

List of Subjects for 14 CFR Part 101

Aircraft, Aviation safety.

The Amendment

In consideration of the foregoing, the FAA amends 14 CFR part 101, as follows:

PART 101--MOORED BALLOONS, KITES, UNMANNED ROCKETS AND UNMANNED FREE BALLOONS

1. The authority citation for part 101 continues to read as follows:

Authority: 49 U.S.C. 106(g), 40103, 40113-40114, 45302, 44502, 44514, 44701-44702, 44721, 46308.

§ 101.25 [Amended]

2. Amend § 101.25(e) by removing the number “8” and adding the number “9.26” in its place and removing the word “statute” and adding the word “nautical” in its place.

Issued in Washington, DC, on September 10, 2009.
Brenda D. Courtney,
Acting Director, Office of Rulemaking.

[FR Doc. E9-22341 Filed 9-15-09; 8:45 am]

BILLING CODE 4910-13-P